DEPARTMENT OF THE INTERIOR

National Park Service

[NPS-AKRO-ANIA-29144; PPAKAKROR4; PPMPRLE1Y.LS0000]

Notice of an Open Public Meeting for the Aniakchak National Monument Subsistence Resource Commission

AGENCY: National Park Service, Interior.

ACTION: Meeting notice.

SUMMARY: The National Park Service (NPS) is hereby giving notice that the Aniakchak National Monument Subsistence Resource Commission (SRC), will hold a public meeting to develop and continue work on NPS subsistence program recommendations, and other related regulatory proposals.

DATES: The SRC will meet from 1:30 p.m. to 4:30 p.m. or until business is completed on Wednesday, December 4, 2019.

ADDRESSES: NPS Alaska Region Office, 240 W 5th Avenue, Anchorage, Alaska 99501.

FOR FURTHER INFORMATION CONTACT: Teleconference participants must call the NPS office in King Salmon, AK at (907) 246-2154 or (907) 246-3305, by Monday, December 2, 2019, prior to the meeting to received teleconference passcode information. For more detailed information regarding this meeting, or if you are interested in applying for SRC membership, contact Mark Sturm, Designated Federal Officer and Superintendent, at (907) 246-2154, or email at mark_sturm@nps.gov or Linda Chisholm, Subsistence Coordinator, at (907) 246-2154 or via email linda_chisholm@nps.gov or Joshua T. Ream, Regional Subsistence Manager, at (907) 644-3596 or via email joshua_ream@nps.gov.

SUPPLEMENTARY INFORMATION: The NPS is holding the meeting pursuant to the Federal Advisory Committee Act (5 U.S.C. Appendix 2). The NPS SRC program is authorized under section 808 of the Alaska National Interest Lands Conservation Act (16 U.S.C. 3118), title VIII.

SRC meetings are open to the public and will have time allocated for public comment. The public is welcome to present written or oral comments to the SRC. SRC meetings will be recorded and meeting minutes will be available upon request from the Superintendent for public inspection approximately six weeks after the meeting.

Purpose of the Meeting: The agenda may change to accommodate SRC business. The proposed meeting agenda includes the following:

1. Call to Order—Confirm Quorum

2. Introductions

3. Superintendent's Welcome

4. Additions, Corrections, and Approval of Agenda

5. Approval of SRC Minutes

6. SRC Purpose and Role

7. Status of Membership

8. Election of Officers for Chair and Vice Chair

9. Public and Agency Comments

10. Subsistence Coordinator's Report

11. Agency Reports

12. Public and Agency Comments

13. Set Date and Location for Next SRC Meeting

14. Adjourn Meeting

SRC meeting location and date may change based on inclement weather or exceptional circumstances. If the meeting date and location are changed, the Superintendent will issue a press release and use local newspapers and radio stations to announce the rescheduled meeting. Should inclement weather prevent travel throughout the week, the meeting will be held by teleconference on Thursday, December 5, 2019.

Public Disclosure of Information: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Shirley Sears,
Acting Chief, Office of Policy.

[FR Doc. 2019-24881 Filed 11-15-19; 8:45 am]

BILLING CODE 4312-52-P